DEPARTMENT OF ENERGY

Federal Energy Regulatory Commission

[Docket No. NJ21-7-000]

City of Colton, California; Notice of Petition for Declaratory Order

Take notice that on December 16, 2020, pursuant to Rules 205 and 207 of the Commission's Rules of Practice and Procedure, 18 CFR 385.205, 385.207, and consistent with the provisions of the Transmission Owner (TO) Tariff, the City of Colton, California (Colton), submitted a petition for a declaratory order requesting that the Commission (1) accept Colton's seventh annual revision to its Transmission Revenue Balancing Account Adjustment (TRBAA); (2) approve Colton's annual update to the costs of its Existing Transmission Contract (ETC) with Southern California Edison Company for the purpose of recovery of such costs through the ETC Pass-through Clause contained in Colton's TO Tariff; (3) accept revisions to Appendix I to Colton's TO Tariff to reflect Colton's revised TRBAA, ETC costs, and updated Base and High Voltage Transmission Revenue Requirements (TRR); (4) to the extent necessary, waive the sixty-day notice requirement provided for in the Commission's regulations at 18 CFR 35.3(a); (5) waive the filing fee associated with this Petition that is provided for by Rule 207 of the Commission's Rules of Practice and Procedure, 18 CFR 385.207; and (6) grant any other relief or waivers necessary or appropriate for approval and implementation of the revisions to Colton's Base TRR (including the updated ETC cost components), TRBAA, High Voltage TRR, and modifications to Colton's TO Tariff effective as of January 1, 2021, as more fully explained in the petition.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioner.

The Commission strongly encourages electronic filings of comments, protests and interventions in lieu of paper using the “eFiling” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

In addition to publishing the full text of this document in the Federal Register, the Commission provides all interested persons an opportunity to view and/or print the contents of this document via the internet through the Commission's Home Page (http://ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov or call toll-free, (886) 208-3676 or TYY, (202) 502-8659.

Comment Date: 5:00 p.m. Eastern Time on January 6, 2021.

Dated: December 22, 2020.
Kimberly D. Bose,
Secretary.

[FR Doc. 2020-28834 Filed 12-29-20; 8:45 am]

BILLING CODE 6717-01-P